DEPARTMENT OF COMMERCE

National Oceanic and Atmospheric Administration

[RTID 0648-XB602]

Marine Mammal Protection Act; Establishment of Time-Area Closures for Hawaiian Spinner Dolphins; Public Hearing

AGENCY: National Marine Fisheries Service (NMFS), National Oceanic and Atmospheric Administration (NOAA), Commerce.

ACTION: Notice of public hearing.

SUMMARY: We, NMFS, will hold a public hearing related to our proposed rule to establish time-area closures for Hawaiian spinner dolphins (Stenella longirostris longirostris) under the Marine Mammal Protection Act (MMPA). The proposed rule to establish time-area closures for Hawaiian spinner dolphins published on September 28, 2021 (86 FR 53844), and provided for a public comment period to end on December 27, 2021. Comments must be received by December 27, 2021, as specified under ADDRESSES. Comments received after this date may not be accepted.

DATES: The public hearing will be held online on December 9, 2021 from 17:00 to 20:00 HST. Since the hearing will be held online, any member of the public can join by internet or phone regardless of location. Instructions for joining the hearings are provided under ADDRESSES below.

ADDRESSES: The public hearing will be conducted as Webex meeting. You may join the Webex meeting using a web browser, the Webex desktop app (app installation required), a mobile app on a phone (app installation required), or audio-only using just a phone call, as specified below.

To join the hearing, click on the link https://noaanmfs-meets.webex.com/noaanmfs-meets/j.php?MTID=mce215a9ffa3f601324ffeca0ddcbc1b8 Password: “dolphin”. If you do not have internet access, you may join by phone: US Toll +1-415-527-5035 Access code: 276 477 10691. You may register for the public hearing in advance by clicking on the link https://docs.google.com/forms/d/e/1FAIpQLScvRZG_d_PTGKUsXi7s7cUmRndeu7rI2tfwn0uh8WMLooAW6Q/viewform?usp=sf_link.

More information about the public hearing is provided under SUPPLEMENTARY INFORMATION. You may submit comments verbally at the public hearing, or in writing by any of the following means. Written comments must be received by December 27, 2021:

Electronic Submissions: Submit all electronic public comments via the Federal eRulemaking Portal. Go to www.regulations.gov and enter NOAA-NMFS-2021-0091 in the search box. Click on the “Comment” icon, complete the required fields, and enter or attach your comments.

Mail: Kevin Brindock, Deputy Assistant Regional Administrator, Protected Resources Division, National Marine Fisheries Service, Pacific Islands Regional Office, 1845 Wasp Blvd., Bldg. 176, Honolulu, HI 96818.

Instructions: You must submit comments by one of the above methods to ensure that we receive, document, and consider them. Comments sent by any other method, to any other address or individual, or received after the end of the comment period, may not be considered. All comments received are a part of the public record and will generally be posted to http://www.regulations.gov without change. All Personal Identifying Information (for example, name, address, etc.) voluntarily submitted by the commenter may be publicly accessible. Do not submit confidential business information or otherwise sensitive or protected information.

NMFS will accept anonymous comments (enter “N/A” in the required fields if you wish to remain anonymous). Attachments to electronic comments will be accepted in Microsoft Word, Excel, WordPerfect, or Adobe PDF file formats only.

FOR FURTHER INFORMATION CONTACT: Kevin Brindock, NMFS Pacific Islands Regional Office; 1845 Wasp Blvd., Bldg. 176, Honolulu, HI 96818; telephone: 808-725-5146; email: kevin.brindock@noaa.gov.

SUPPLEMENTARY INFORMATION: On September 28, 2021, NMFS proposed a regulation under the MMPA to establish mandatory time-area closures of Hawaiian spinner dolphins' essential daytime habitats at five selected sites in the Main Hawaiian Islands. During designated times, unless subject to an exception as described in the proposed rule, these regulatory measures would prohibit any person or vessel, on or below the surface, to enter, cause to enter, solicit to enter, or remain within any of the five time-area closures, for the purpose of preventing take of Hawaiian spinner dolphins in areas identified as important essential daytime habitats for spinner dolphins. The proposed mandatory time-area closures would occur from 6 a.m. to 3 p.m. daily in areas of Kealakekua Bay, Hōnaunau Bay, Kauhakō Bay (Ho`okena), and Makako Bay on Hawai`i Island, and La Perouse Bay on Maui.

The proposed rule and other materials prepared in support of this action are available at: https://www.fisheries.noaa.gov/action/proposed-rule-establish-time-area-closures-hawaiian-spinner-dolphins-essential-habitats-main. We are accepting public comments for the proposed rule through December 27, 2021. Public comments can be submitted as described under ADDRESSES.

Public Hearings

The public hearing will be conducted online as Webex meeting, as specified in ADDRESSES above. If you do not have internet access, you may join by phone at the numbers listed in ADDRESSES above. The hearing will begin with a brief presentation by NMFS that gives an overview of the proposed rule to establish time-area closures at Hawaiian spinner dolphins' essential day time habitat. After the presentation but before public comments, there will be a question and answer session during which members of the public may ask NMFS staff questions about the proposed rule. Following the question and answer session, members of the public will have the opportunity to provide oral comments regarding proposed time-area closures. Oral comments may be limited to two minutes or less. Members of the public will also have the opportunity to submit written comments at the hearings. Written comments may also be submitted at any time during the relevant public comment period as described under ADDRESSES. All oral comments will be recorded (audio only), transcribed, and added to the public comment record for this proposed rule.

Special Accommodations

Requests for sign language interpretation or other auxiliary aids should be directed to Kevin Brindock (telephone: 808-725-5146; email: kevin.brindock@noaa.gov) at least 10 business days prior to the meeting date.

Authority: 16 U.S.C. 1361 et seq.

Dated: November 18, 2021.
Kimberly Damon-Randall,
Director, Office of Protected Resources, National Marine Fisheries Service.

[FR Doc. 2021-25562 Filed 11-22-21; 8:45 am]

BILLING CODE 3510-22-P